DEPARTMENT OF HOMELAND SECURITY

Federal Emergency Management Agency

[Z-RIN 1660-ZA03]

Emergency Preparedness Demonstration Program

AGENCY: Federal Emergency Management Agency (FEMA), Emergency Preparedness and Response (EP&R) Directorate, Department of Homeland Security (DHS).

ACTION: Notice of availability of funds.

SUMMARY: FEMA gives notice of the availability of the Emergency Preparedness Demonstration Program (the “Program”) for Fiscal Year 2005. The Program will provide a single award of $1.5 million for a cooperative agreement with an eligible organization to conduct post-disaster critiques and evaluations in disadvantaged communities affected by Hurricane Isabel, provide an assessment of emergency preparedness awareness in these communities, and develop recommendations for new methods to improve outreach to these and similar communities.

These funds will be competitively awarded.

Authority: Robert T. Stafford Disaster Relief and Emergency Assistance Act, as amended (42 U.S.C. Sec. 5121-5206).

DATES: Completed applications must be received or postmarked by midnight, EST, January 21, 2005.

ADDRESSES: Grants Management Division, FEMA Headquarters, 500 C Street, SW., Room 316, Washington, DC 20472.

FOR FURTHER INFORMATION CONTACT: Ralph Swisher, Program and System Development Branch, Preparedness Division, FEMA, 500 C Street, SW., Washington, DC 20472, 202-646-3561, or e-mail ralph.swisher@dhs.gov.

SUPPLEMENTARY INFORMATION: All information needed for the preparation and submission of information in response to this Notice is included in this Notice. An electronic copy of this information is also available on the Web at http://www.grants.gov/Find.

(a) Introduction

The purpose of this notice is to advise of the availability of funds to conduct post-disaster critiques and assessments in disadvantaged communities, promote emergency preparedness awareness, and develop recommendations for new methods to improve preparedness. These targeted disadvantaged communities may include communities with a significant number of individuals who are socially disadvantaged, economically disadvantaged, have special needs, or are underserved. A single award of $1,500,000 will be available for this purpose in the form of a cooperative agreement between FEMA and the selected Grantee.

The purpose of this project is to conduct research and workshops and assist FEMA to develop an Emergency Preparedness Demonstration Program targeting disadvantaged communities. The Program will involve research into the status of disaster awareness and emergency preparedness in disadvantaged households and communities in Delaware, Maryland, North Carolina, Pennsylvania, Virginia, West Virginia and the District of Columbia (the “designated States”), which were impacted by Hurricane Isabel; to research the capacity of such communities to provide awareness education for the public, and provide data and information on the project. The Program will model ways of accomplishing program objectives in demonstration sites: improved awareness of the risk of disasters, awareness of the need for preparedness, and achievement of concrete improvements in disaster preparedness, response and recovery.

(b) Program Description

(1) Background

Research and field experience reveal the disproportionate impact of major disasters on disadvantaged households and communities. Hurricane Isabel is a recent, catastrophic disaster, which severely impacted disadvantaged communities, and this provides a unique opportunity to study the preparedness of these specific groups through the Emergency Preparedness Demonstration Program.

The research that will be carried out under the cooperative agreement will focus on communication about disaster hazards and risks and the potential efficacy of general and specific preparedness, prevention, response, and recovery actions by subject persons, families, and communities. In particular, the research will seek to uncover any perceptions, predispositions and motivations held by the community that limit the level of preparedness and the effectiveness of preparedness activities. Such factors may be identified in any or all group and institutional patterns: family, workplace, school, recreation, health care, business and industry, religious and charitable organizations, political organizations, quasi-governmental institutions and local governments. The research is open to any variation on the general concepts of perceived validity, credibility, confidence, and acceptability of actions by individuals and organizations throughout the institutional network of the community that can help explain who should do what, and how the community can become more adequately prepared for disaster.

Numerous factors influence risk communication and the response, both to preparedness messages during normal periods and to emergency instructions when disasters occur. Research for the program focuses on weak links where disadvantaged groups and communities are not responding to emergency preparedness messages and/or emergency instructions, why that is the case, and what can improve the situation. If the initial 24-month period of performance is successful, the period of performance may be extended, depending on the availability of funds.

FEMA's vision for the Program is that informed leaders and citizens of disadvantaged communities will be prepared to protect their families, homes, workplaces, and livelihoods from the impact of all hazards. Through collaboration and coordination with public and private organizations, FEMA will support the development and demonstration of model emergency preparedness information, training and community approaches. Pilot programs must first demonstrate that the materials and approaches are effective in specific disadvantaged communities, establishing and enhancing emergency preparedness and response systems, information materials, warnings and emergency instructions, and actual community response. The successful model(s) will become demonstration projects for broader replication.

The FEMA Project Office (PO) will be proactively involved in research planning and analysis and must approve the research plan before it is implemented. The PO will be engaged in integrating application of research results into demonstration project design, guidance documents and technical assistance to demonstration projects. The PO or designated FEMA staff will coordinate State involvement in identifying disadvantaged communities as the subjects of research, and the PO, in coordination with designated States, must approve selection of demonstration sites. The FEMA PO will also coordinate identification and assessment of national organizations with local affiliates eligible for participation in local demonstration project networks.

(2) Use of Results

The Program will apply the results to help reinforce the nation's overall emergency preparedness and response capabilities by assisting community-based organizations in strengthening the defenses and preparedness efforts of disadvantaged, vulnerable communities. All public education materials and approaches concerning disaster awareness, perceptions, preparedness, prevention, response and recovery developed for and provided to FEMA, under this project will be in the public domain.

(3) Description of Work to Be Performed

In consultation with FEMA the Grantee shall conduct field research, develop materials, conduct workshops, and assist FEMA to develop an Emergency Preparedness Demonstration Program in the States of Delaware, Maryland, North Carolina, Pennsylvania, Virginia and West Virginia and Washington, DC. The Grantee will—

• Conduct research into the status of emergency preparedness and disaster response awareness in socially and economically disadvantaged households located in urban, suburban and rural communities in the designated States, with an emphasis on those impacted by Hurricanes Isabel (2003). Comparisons with Hurricane Floyd (September 1999) and Hurricanes Charley, Frances and Ivan (2004) and others may be used to confirm, elaborate or refine research results.

• Develop culturally competent educational and awareness materials, and modes of communication and program approaches that can be used to disseminate information to community organizations and institutions, and promote awareness of emergency preparedness education programs and materials.

• Provide technical assistance to State and local leaders and organizations.

• Provide a final report on Demonstration program results, and lessons learned in demonstration projects. Revised program materials will be appended.

• Provide a briefing and participate in discussion of results, their implications and applications.

(c) Eligibility

An organization shall be eligible to be awarded a cooperative agreement with respect to this program if the organization is a non-profit organization that is described in section 501(c)(3) of the Internal Revenue Code of 1986 (26 U.S.C. 501(c)(3)) and exempt from tax under section 501(a) of such Code, whose primary mission is to provide services to disadvantaged communities, and that can demonstrate partnerships with a business enterprise or non-profit organization focused on the special needs of these communities, including enterprises located in a HUBZone. The Grantee will have the ability to award nominal subgrants (average $50,000) to support collection and reporting of demonstration program data and information over approximately 18 months. Eligible sub-applicants would include community organizations, local government organizations, and other non-profit organizations in the designated States.

Each applicant must certify status as a Sec. 501(c)3 private non-profit organization, with knowledge of, experience in and capabilities for managing the project.

(d) Application Process

FEMA will fund Emergency Preparedness Demonstration Program activities based on proposals that address the Program's priorities and maximize the benefits to be derived from the funds.

Applications must be submitted in a paper format, and must include Standard Form SF-424 Application for Federal Assistance (for background/contact information), a FEMA Form 20-20 (for budget information), FEMA Forms 20-16A and 20-16C (for assurances and certifications), standard Form LLL Disclosure of Lobbying Activities, and a Program Narrative (all grants administration forms have been approved by the Office of Management and Budget under OMB control number 1660-0025, which expires July 31, 2007.). Each applicant is required to provide a narrative of specifics regarding the proposed activities that they plan to carry out with the grant funds, including an explanation of the activities planned and the benefits to be derived from completion of the activities.

Award Procedure

A single cooperative agreement will be awarded on a competitive basis to be used as specified in the approved application and agreed to between FEMA and the recipient in the cooperative agreement. All proposals will be evaluated by a FEMA panel composed of subject-matter, program and grant experts. The successful application will have the proposal that in FEMA's judgment best addresses the program's priorities and goals. The panel will conduct an assessment of the proposal's merits, with respect to the detail provided in the proposal. The panel will make the award recommendation to the Grants Management Branch of the Financial and Acquisition Management Division. The Grants Management Branch will contact the applicant with the best proposal to discuss and execute the cooperative agreement.

Completed applications must be received or postmarked by January 21, 2005. Applications are required to include a narrative and the required FEMA forms. These forms are available online at http://www.fema.gov/ofm/grants2.shtm. Failure to submit all of the required forms will result in a disqualification of the paper application. Applications should be mailed to FEMA, Attn: Emergency Preparedness Demonstration Program, 500 C Street, SW., Room 316, Washington, DC 20472.

(e) Eligible Activities

The Federal Emergency Management Agency (FEMA) will provide funds to an eligible organization to: (1) Acquire expert professional services necessary to conduct research on the status of emergency preparedness and disaster response awareness in disadvantaged communities; (2) develop and prepare informational materials to promote awareness among disadvantaged communities about emergency preparedness and how to protect homes, businesses and communities in advance of disasters; (3) establish consortia with national organizations, institutions of higher education, and community-or faith-based (501(c)(3) nonprofit) institutions with a demonstrated focus on the targeted communities to disseminate information about emergency preparedness to these communities; and (4) implement a joint project with an institution serving disadvantaged individuals and communities, which may include a part B institution (as defined in section 322(2) of the Higher Education Act of 1965 (20 U.S.C. 1061(2)), an institution described in subparagraph (A), (B), or (C) of section 326(e)(1)of that Act (20 U.S.C. 1063b(e)(1)(A), (B), or (C)), or a Hispanic-serving institution (as defined in section 502(a)(5) of that Act (20 U.S.C. 1101a(a)(5))).

Funds are for demonstration projects in the designated areas affected by Hurricane Isabel in September 2003 (Delaware, Maryland, North Carolina, Pennsylvania, Virginia, West Virginia and the District of Columbia).

(f) Evaluation Criteria

A panel of subject matter expert will review the applications to determine the one that best addresses the program's objectives. The panel will use the following guidelines to determine the proposal with the highest rating, which will be the recommended Grantee.

1. Technical and Management Factors (35 points).

a. Understanding of the problem.

b. Approach to address the problem.

c. Demonstrated competence of Project Manager.

d. Demonstrated competence of key professionals.

e. Demonstrated competence among management and key professionals in building networks and coalitions with national and community voluntary, social, civic, fraternal and/or faith-based organizations.

2. Project Organization and Management (20 points). Experience and performance in administrative management: The division of work into various tasks to be performed, and the coordination of those tasks to accomplish project activities and objectives.

a. Definition of responsibility and accountability for key specific tasks and functions of specifically named key individuals within the organizations and units.

b. Time commitment of key individuals to carry out the proposed tasks and responsibilities necessary to complete the project.

c. Designation of tasks, subtasks, products, and time schedule for performance of those tasks and delivery of reports and products.

d. Procedures for supervising, coordinating and evaluating task performance

e. Procedures for monitoring time schedule and monetary control.

3. Organizational Qualifications (45 points).

a. Current and previous corporate experience in managing and conducting projects of similar scope and complexity and potential for controversy.

b. Corporate experience in networks and coalitions with national and community voluntary, social, civic, fraternal and/or faith-based organizations.

Dated: December 15, 2004.
Michael D. Brown,
Under Secretary, Emergency Preparedness and Response, Department of Homeland Security.

[FR Doc. 04-27928 Filed 12-21-04; 8:45 am]

BILLING CODE 9110-17-P